DEPARTMENT OF COMMERCE

International Trade Administration

[ -485-806]

Certain Hot-Rolled Carbon Steel Flat Products From Romania: Final Results of Antidumping Duty Administrative Review.

AGENCY: Import Administration, International Trade Administration, Department of Commerce.

SUMMARY: On December 7, 2004, the Department of Commerce (the Department) published the preliminary results of the antidumping duty administrative review of certain hot-rolled carbon steel flat products from Romania. This review covers one manufacturer/exporter of the subject merchandise. The period of review (POR) is November 1, 2002, through October 31, 2003. Based on our analysis of comments received, these final results differ from the preliminary results. The final results are listed below in the “Final Results of Review” section.

EFFECTIVE DATE: June 14, 2005.

FOR FURTHER INFORMATION CONTACT: David Layton or Paul Stolz, AD/CVD Operations, Office 8, Import Administration, International Trade Administration, U.S. Department of Commerce, 14th Street and Constitution Avenue, NW., Washington, DC 20230; telephone: (202) 482-0371 and (202) 482-4474, respectively.

SUPPLEMENTARY INFORMATION:

Background

On December 7, 2004, the Department published the preliminary results of the antidumping duty administrative review of certain hot-rolled carbon steel flat products from Romania. See Certain Hot-Rolled Carbon Steel Flat Products from Romania: Preliminary Results of Antidumping Duty Administrative Review, 69 FR 70644 (December 7, 2004) (Preliminary Results). The review covers one manufacturer/exporter, S.C. Ispat Sidex S.A. (Sidex).

Romania's designation as a non-market-economy (NME) country remained in effect until January 1, 2003.¹ Since the first two months of the POR fell before Romania's graduation to market-economy status and the last ten months of this POR came after its graduation, in its antidumping questionnaire to Ispat Sidex, dated January 26, 2004, the Department determined that it would treat Romania as an NME country from November 1, 2002, through December 31, 2002, and a market-economy (ME) country from January 1, 2003, through October 31, 2003. Ispat Sidex stated in its February 23, 2004, response to the Department's ME Section A questionnaire that it made no sales of subject merchandise during the 10-month ME period. In a separate February 23, 2004, submission, Ispat Sidex provided documentation to support its claim that it had no sales subject merchandise during the ME portion of the POR. The Department corroborated this claim using U.S. Customs and Border Protection (CBP) import data. See Decision Memorandum to Gary Taverman (March 9, 2004) available in the Department's Central Records Unit, room B099, of the main Commerce building (CRU). Therefore, in the section of this notice entitled “Final Results of Review”, we have calculated a weighted-average dumping margin for the NME portion of the POR because we found no sales of subject merchandise during the ME portion of the POR. This weighted-average figure represents the dumping margin for the entire POR.

¹ In Certain Small Diameter Carbon and Alloy Seamless Standard, Line, and Pressure Pipe from Romania: Final Results of Antidumping Duty Administrative Review, 68 FR 12672, 12673 (March 17, 2003), the Department reviewed the non-market-economy status of Romania and determined to reclassify Romania as a market economy for purposes of antidumping and countervailing duty proceedings, pursuant to section 771(18)(A) of Tariff Act of 1930 as amended, effective January 1, 2003. See Memorandum from Lawrence Norton, Import Policy Analyst, to Joseph Spetrini, Acting Assistant Secretary for Import Administration: Antidumping Duty Administrative Review of Certain Small Diameter Carbon and Alloy Seamless Standard, Line, and Pressure Pipe from Romania-Non-Market Economy Status Review (March 10, 2003).

We invited parties to comment on our preliminary results of review. Sidex and a domestic interested party, United States Steel Corporation (U.S. Steel), filed case briefs on January 6, 2005, and rebuttal briefs on January 18, 2005.

On April 13, 2005, the Department published in the Federal Register a notice extending the final results of the administrative review of the antidumping duty order on certain hot-rolled carbon steel flat products from Romania until no later than May 6, 2005. See Notice of Extension of Time Limit for the Final Results of Antidumping Duty Administrative Review: Certain Hot-Rolled Carbon Steel Flat Products from Romania, 70 FR 19417 (April 13, 2005).

On May 17, 2005, the Department published in the Federal Register a second notice further extending the final results until no later than June 6, 2005. See Notice of Extension of Time Limit for the Final Results of Antidumping Duty Administrative Review: Certain Hot-Rolled Carbon Steel Flat Products from Romania, 70 FR 28275 (May 17, 2005).

Scope of the Order

The products covered by the order are certain hot-rolled carbon steel flat products of a rectangular shape, of a width of 0.5 inch or greater, neither clad, plated, nor coated with metal and whether or not painted, varnished, or coated with plastics or other non-metallic substances, in coils (whether or not in successively superimposed layers), regardless of thickness, and in straight length, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this order.

Specifically included within the scope are vacuum degassed, fully stabilized steels (commonly referred to as interstitial-free (IF) steels), high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this order, regardless of definitions in the Harmonized Tariff Schedule of the United States (HTSUS), are products in which: (i) iron predominates, by weight, over each of the other contained elements; (ii) the carbon content is 2 percent or less, by weight; and (iii) none of the elements listed below exceeds the quantity, by weight, respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent of vanadium, or 0.15 percent of zirconium.

All products that meet the physical and chemical description provided above are within the scope of the order unless otherwise excluded. The following products, by way of example, are outside or are specifically excluded from the scope:

• Alloy hot-rolled steel products in which at least one of the chemical elements exceeds those listed above (including, e.g., American Society for Testing and Materials (ASTM) specifications A543, A387, A514, A517, A506). Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this order is classified in the HTSUS at the following subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00.

Although the HTSUS subheadings are provided for convenience and customs purposes, our written description of the merchandise subject to this scope is dispositive.

Duty Absorption

On January 23, 2004, U.S. Steel requested that the Department determine whether antidumping duties had been absorbed during the POR. Section 751(a)(4) of Tariff Act of 1930 as amended (the Act) provides that, if requested, the Department will determine during an administrative review initiated two or four years after the publication of the order whether antidumping duties have been absorbed by a foreign producer or exporter if the subject merchandise is sold in the United States through an affiliated importer. In this case, Ispat Sidex sold to the United States through an importer that is affiliated within the meaning of section 771(33) of the Act. Because this review was initiated two years after the publication of the antidumping duty order, we made a duty-absorption determination in this segment of the proceeding. Accordingly, on November 29, 2004, we issued a request to Sidex to provide information on whether it absorbed any antidumping duties on sales of subject merchandise during the POR. We received Sidex's response on December 7, 2004, and issued a preliminary determination on March 18, 2005, that no duty absorption had occurred during the POR. See Memorandum to Wendy Frankel from David Layton: Preliminary Determination Regarding Duty Absorption (March 18, 2005). We provided parties with an opportunity to comment, but received no comments. Therefore, for these final results, we determine that no antidumping duties were absorbed during the POR.

Separate Rates

Because we are conducting this review in accordance with 19 CFR 351.408, we are applying our NME methodology for Sidex in the first two months of this review (November-December 2002). Sidex has requested a separate, company-specific antidumping duty rate in this review. In the preliminary results, we found that Sidex had met the criteria for the application of separate antidumping duty rates. See Preliminary Results. We have not received any other information since the preliminary results which would warrant reconsideration of our separate rates determination with respect to this company. Therefore, we determine that Sidex should be assigned a rate separate from the NME entity for the NME portion of this administrative review period.

Analysis of Comments Received

All issues raised in the case and rebuttal briefs by parties to this review are addressed in the “Issues and Decision Memorandum” (Decision Memorandum) from Barbara E. Tillman, Acting Deputy Assistant Secretary, Import Administration, to Joseph E. Spetrini, Acting Assistant Secretary for Import Administration, dated June 6, 2005, which is hereby adopted by this notice.

A list of the issues which parties have raised and to which we have responded in the Decision Memorandum is attached to this notice as an Appendix. Parties can find a complete discussion of all issues raised in this review and the corresponding recommendations in this public memorandum, which is on file in the CRU.

In addition, a complete version of the Decision Memorandum can be accessed directly on the Internet at http://ia.ita.doc.gov/frn. The paper copy and electronic version of the Decision Memorandum are identical in content.

Changes Since the Preliminary Results

Based on our analysis of comments received, we have made the following changes for the final results:

1. For dolomite, metallurgical coke, ferromanganese, scale and slag, iron scrap, caustic soda, ferromanganese, aluminum, silicocalcium, silicomanganese, lime, steel slab, injected coal powder, ammonium sulfate, raw tar, pitch A, pitch B and creosote oil, we are using different surrogate values for the final results. See Decision Memorandum at Comment 2 and Memorandum to Wendy J. Frankel from David Layton: Factors of Production Valuation for Final Results (June 6, 2005) (Final Valuation Memorandum) at 3-4, 6-8 and Exhibits C and D.

2. We are now using the financial statements of PT Jaya Pari Steel in place of those from Ispat Annaba SPA to calculate a non-depreciation overhead ratio for our primary surrogate company, Alexandria Iron and Steel Co. See Decision Memorandum at Comment 7 and Final Valuation Memorandum at 8 and Exhibits I-1 through I-3 for the revised calculation of the financial ratios.

3. The Department corrected ministerial errors in the preliminary results calculations, where appropriate. See Decision Memorandum at Comment 6. See also Memorandum to the File from David Layton and Paul Stolz: Final Results of the Administrative Review of Certain Hot-Rolled Carbon Steel Flat Products from Romania (A-485-806), Calculation Memorandum, Ispat Sidex S.A. (June 6, 2005) (Final Calculation Memorandum) at 2-3.

All-Others Rate

The Department is applying an all-others rate of 17.84 percent. We calculated this all-others rate in accordance with section 735(c)(5) of the Act using the weighted average of the estimated dumping margins established in the less-than-fair-value investigation for those exporters individually investigated. See Memorandum to the File from David Layton: Calculation of the All-Others Rate (June 6, 2005).

Final Results of Review

As a result of our review, we determine that the following weighted-average percentage margin exists for the period November 1, 2002, through October 31, 2003:

Manufacturer/exporter | Margin (percent)
S.C. Sidex S.A. (including Sidex Trading, S.A.) | 0.00
All Others Rate | 17.84

Assessment Rates

In accordance with 19 CFR 351.212(b)(1), we have calculated importer (or customer)-specific assessment rates for the merchandise subject to this review. To determine whether the duty assessment rates were de minimis, in accordance with the requirement set forth in 19 CFR 351.106(c), we calculated importer (or customer)-specific ad valorem rates by aggregating the dumping margins calculated for all U.S. sales to that importer (or customer) and dividing this amount by the total entered value of the sales to that importer (or customer). Where an importer (or customer)-specific ad valorem rate was greater than de minimis, we will direct CBP to apply the ad valorem assessment rates against the entered value of each of the importer's (or customer's) entries during the review period. Where an importer (or customer)-specific ad valorem rate was de minimis, we will instruct CBP to liquidate without regard to antidumping duties.

All other entries of the subject merchandise during the POR will be liquidated at the antidumping duty rate in place at the time of entry. The Department will issue appropriate assessment instructions directly to CBP within 15 days of publication of these final results of review.

Cash-Deposit Requirements

The following deposit requirements will be effective for all shipments of the subject merchandise entered, or withdrawn from warehouse, for consumption on or after the publication date of these final results of administrative review, as provided by section 751(a) of the Act: (1) for Sidex, the margin was zero, therefore no cash deposit will be required; (2) for merchandise exported by manufacturers or exporters not covered in this review but covered in a previous segment of this proceeding, the cash-deposit rate will continue to be the company-specific rate published in the prior segment of the proceeding in which that manufacturer or exporter participated; (3) if the exporter is not a firm covered in this review or in any previous segment of this proceeding but the manufacturer is, the cash-deposit rate will be that established for the manufacturer of the merchandise in these final results of review or in the most recent segment of the proceeding in which that manufacturer participated; and (4) if neither the exporter nor the manufacturer is a firm covered in this or any previous review conducted by the Department, the cash deposit rate will be 17.84 percent. These deposit requirements shall remain in effect until publication of the final results of the next administrative review.

Notification

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return/destruction or conversion to judicial protective order of proprietary information disclosed under APO in accordance with 19 CFR 351.305(a)(3). Failure to comply is a violation of the APO.

This determination is issued and published in accordance with sections 751(a)(1) and 777(i)(1) of the Act.

Dated: June 6, 2005.
Joseph A. Spetrini,
Acting Assistant Secretary for Import Administration.

Appendix - Decision Memorandum

Comment 1: Appropriate Period for Surrogate Value Data

Comment 2: Aberrational Surrogate Value Data

Comment 3: Use of Market Economy Purchases From the Previous POR

Comment 4: Natural Gas Surrogate Value

Comment 5: Use of Romanian ME Barge Rates as NME Surrogates

Comment 6: Ministerial Errors

Comment 7: Financial Ratios

Comment 8: Treatment of Non-dumped Sales

[FR Doc. E5-3067 Filed 6-13-E5; 8:45 am]

BILLING CODE 3510-DS-S